DEPARTMENT OF AGRICULTURE

Food Safety and Inspection Service

[Docket No. FSIS-2010-0009]

Codex Alimentarius Commission: Meeting of the Codex Committee on Food Labeling

AGENCY: Office of Food Safety, USDA.

ACTION: Notice of public meeting and request for comments.

SUMMARY: The Office of Food Safety, United States Department of Agriculture (USDA), and the Food and Drug Administration (FDA), are sponsoring a public meeting on April 7, 2010. The objective of the public meeting is to provide information and receive public comments on agenda items and draft United States positions that will be discussed at the 38th Session of the Codex Committee on Food Labeling (CCFL) of the Codex Alimentarius Commission (Codex), which will be held in Quebec City, Canada, May 3-7, 2010. The Office of Food Safety and the FDA recognize the importance of providing interested parties the opportunity to obtain background information on the 38th Session of the CCFL and to address items on the agenda.

DATES: The public meeting is scheduled for April 7, 2010, from 2 to 5 p.m.

ADDRESSES: The public meeting will be held at the USDA, Jamie L. Whitten Building, Room 107-A, 1400 Independence Avenue, SW., Washington, DC 20250. Documents related to the 38th Session of the CCFL will be accessible via the World Wide Web at the following address: http://www.codexalimentarius.net/current.asp.

The U.S. Delegate to the 38th Session of the CCFL, Barbara Schneeman, and the FDA invite interested U.S. parties to submit their comments electronically to the following e-mail address: Ritu.Nalubola@fda.hhs.gov.

Registration:

If you would like to participate in the public meeting by telephone conference, please use the following call-in number and passcode: Call-in Number: 1-866-692-3158. Passcode: 5986642.

For Further Information About the 38th Session of the CCFL Contact: Doreen Chen-Moulec, U.S. Codex Office, Food Safety and Inspection Service (FSIS), Room 4861, 1400 Independence Avenue, SW., Washington, DC 20250, Phone: (202) 205-7760, Fax: (202) 720-3157, E-mail: Doreen.Chen-Moulec@fsis.usda.gov.

For Further Information About the Public Meeting Contact: Doreen Chen-Moulec, U.S. Codex Office, FSIS, Room 4861, 1400 Independence Avenue, SW., Washington, DC 20250, Phone: (202) 205-7760, Fax: (202) 720-3157, E-mail: Doreen.Chen-Moulec@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFL is responsible for drafting provisions on labeling applicable to all foods; considering, amending if necessary, and endorsing draft specific provisions on labeling of draft standards, codes of practice and guidelines prepared by other Codex Committees; studying specific labeling problems assigned to it by the Codex Commission; and studying problems associated with the advertisement of food with particular reference to claims and misleading descriptions.

The Committee is chaired by Canada.

Issues To Be Discussed at the Public Meeting

The following items on the agenda for the 38th Session of the CCFL will be discussed during the public meeting:

• Matters Referred to the Committee by other Codex Bodies

• Consideration of Labeling Provisions in Draft Codex Standards

• Implementation of the WHO Global Strategy on Diet, Physical Activity, and Health

(a) Proposed Draft Revision of the Guidelines on Nutrition Labeling Concerning the List of Nutrients that are always Declared on a Voluntary or Mandatory Basis

(b) Discussion Paper on Issues Related to Mandatory Nutrition Labeling

(c) Proposed Draft Criteria and Principles for Legibility and Readability of Nutrition Labels

(d) Discussion Paper on Labeling Provisions Dealing with the Food Ingredients Identified in the Global Strategy on Diet, Physical Activity, and Health

• Guidelines for the Production, Processing, Labeling and Marketing of Organically Produced Foods:

Annex 1: Inclusion of Ethylene for Other Products

• Labeling of Foods and Food Ingredients Obtained through Certain Techniques of Genetic Modification/Genetic Engineering

(a) Draft Amendment to the General Standard for the Labeling of Prepackaged Foods: Definitions

• Discussion Paper on the Need to Amend the General Standard for the Labeling of Prepackaged Foods in line with the International Organization of Legal Metrology (OIML) Recommendations Regarding the Declaration of the Quantity of Product in Prepackages.

Each issue listed will be fully described in documents distributed, or to be distributed, by the Codex Secretariat prior to the CCFL meeting. Members of the public may access these documents on the World Wide Web (see ADDRESSES).

Public Meeting

At the April 7, 2010, public meeting, draft U.S. positions on the agenda items will be described and discussed and attendees will have the opportunity to pose questions and offer comments. Written comments may be offered at the meeting or sent to the U.S. Delegate, Barbara Schneeman (See ADDRESSES), for the 38th Session of the CCFL. Written comments should state that they relate to activities of the 38th Session of the CCFL.

Additional Public Notification

Public awareness of all segments of rulemaking and policy development is important. Consequently, in an effort to ensure that minorities, women, and persons with disabilities are aware of this notice, FSIS will announce it online through the FSIS Web page located at http://www.fsis.usda.gov/Regulations_&_Policies/2010_Notices_Index/index.asp. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information, to regulations, directives, and notices. Customers can add or delete subscriptions themselves, and have the option to password protect their accounts.

Done in Washington, DC, March 17, 2010.
Karen Stuck,
U.S. Manager for Codex Alimentarius.

[FR Doc. 2010-6559 Filed 3-24-10; 8:45 am]

BILLING CODE 3410-DM-P